DEPARTMENT OF COMMERCE

National Oceanic and Atmospheric Administration

RIN 0648-XF613

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Ad Hoc Trawl Groundfish Electronic Monitoring Technical Advisory Committee (GEMTAC) and Groundfish Electronic Monitoring Policy Advisory Committee (GEMPAC) (GEM Committees) will hold a joint work session via webinar, which is open to the public.

DATES: The webinar meeting will be held September 6, 2017, from 1 p.m. until 5 p.m. (Pacific Daylight Time) or when business for each day has been completed.

ADDRESSES: To attend the webinar, visit: http://www.gotomeeting.com/online/webinar/join-webinar. Enter the Webinar ID, which is 405-536-325, and enter your name and email address (required). Participants are encouraged to use their telephone, as this is the best practice to avoid technical issues and excessive feedback (see http://www.pcouncil.org/wp-content/uploads/PFMC_Audio_Diagram_GoToMeeting.pdf for best practices). Please use your telephone for the audio portion of the meeting by dialing this TOLL number 1+ (872) 240-3412 (not a toll-free number); then enter the Attendee phone audio access code: 405-536-325; then enter your audio phone pin (shown after joining the webinar). System Requirements for PC-based attendees: Required: Windows® 7, Vista, or XP; for Mac®-based attendees: Required: Mac OS® X 10.5 or newer; and for mobile attendees: iPhone®, iPad®, Android™ phone or Android tablet (See the GoToMeeting Webinar Apps).

You may send an email to kris.kleinschmidt@noaa.gov or contact him at (503) 820-2280, extension 411 for technical assistance. A public listening station will be available at the Pacific Council office.

Council address: Pacific Fishery Management Council, 7700 NE Ambassador Place, Suite 101, Portland, OR 97220.

FOR FURTHER INFORMATION CONTACT: Mr. Brett Wiedoff, Staff Officer, Pacific Council; phone: (503) 820-2280.

SUPPLEMENTARY INFORMATION: The GEM Committees will discuss items on the Pacific Council's September 2017 meeting agenda with the discussions focused on, but not limited to, Electronic Monitoring (EM)—Preliminary Pacific Halibut Discard Mortality Rates and Third-Party Review. The GEM Committees may also address one or more of the Council's scheduled Administrative Matters. The Committees will discuss analytical results of halibut discard mortality rates as observed under the Pacific Council's electronic monitoring program for the limited entry groundfish non-whiting midwater trawl and bottom trawl fisheries when fishing under the non-trawl shorebased individual fishing quota program. In addition, the Committees will discuss policy implications of the Council's preferred alternative for the industry to use solely the Pacific States Marine Fisheries Commission as the EM review provider when the program is implemented in regulation.

Although non-emergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the GEMPAC's and GEMTAC's intent to take final action to address the emergency.

Special Accommodations

The public listening station is physically accessible to people with disabilities. Requests for sign language interpretation or other auxiliary aids should be directed to Mr. Kris Kleinschmidt (503) 820-2411 at least 10 days prior to the meeting date.

Dated: August 15, 2017.
Jeffrey N. Lonergan,
Acting Deputy Director, Office of Sustainable Fisheries, National Marine Fisheries Service.

[FR Doc. 2017-17541 Filed 8-18-17; 8:45 am]

BILLING CODE 3510-22-P